DEPARTMENT OF HOUSING AND URBAN DEVELOPMENT

[Docket No. FR-4971-N-33]

Notice of Submission of Proposed Information Collection to OMB; Subpoenas and Production in Response to Subpoenas or Demands of Courts or Other Authorities

AGENCY: Office of the Chief Information Officer, HUD.

ACTION: Notice.

SUMMARY: The proposed information collection requirement described below has been submitted to the Office of Management and Budget (OMB) for review, as required by the Paperwork Reduction Act. The Department is soliciting public comments on the subject proposal.

Upon a denial by the Office of Inspector General of a request for documents or testimony, a petitioner may submit a written Notice of Intention to Petition for Review (Notice) and Petition for Review (Petition) detailing the issues and reasons why a review of the Counsel's decision is appropriate. Upon request or demand of documents or testimony, the Counsel for the Inspector General will review the demand and determine whether an OIG employee is authorized to release documents or testify. The Counsel will notify the requester of the final determination and the reasons for the grant or denial of the request.

DATES: Comments Due Date: July 28, 2005.

ADDRESSES: Interested persons are invited to submit comments regarding this proposal. Comments should refer to the proposal by name and should be sent to: HUD Desk Officer, Office of Management and Budget, New Executive Office Building, Washington, DC 20503; fax: 202-395-6974.

FOR FURTHER INFORMATION CONTACT: Wayne Eddins, Reports Management Officer, AYO, Department of Housing and Urban Development, 451 Seventh Street, SW., Washington, DC 20410; e-mail Wayne_Eddins@HUD.gov; or Lillian Deitzer at Lillian_L_Deitzer@HUD.gov or telephone (202) 708-2374. This is not a toll-free number. Copies of available documents submitted to OMB may be obtained from Mr. Eddins or Ms Deitzer or from HUD's Web site at http://hlannwp031.hud.gov/po/i/icbts/collectionsearch.cfm.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Subpoenas and Production in Response to Subpoenas or Demands of Courts or Other Authorities

OMB Approval Number: 2535-Pending.

Form Numbers: None.

Description of the Need for the Information and Its Proposed Use:

Upon a denial by the Office of Inspector General of a request for documents or testimony, a petitioner may submit a written Notice of Intention to Petition for Review (Notice) and Petition for Review (Petition) detailing the issues and reasons why a review of the Counsel's decision is appropriate. Upon request or demand of documents or testimony, the Counsel for the Inspector General will review the demand and determine whether an OIG employee is authorized to release documents or testify. The Counsel will notify the requester of the final determination and the reasons for the grant or denial of the request.

Frequency of Submission: On occasion.

| Number of respondents | Annual responses | × | Hours per response | = | Burden hours
Reporting Burden: | 8 | 2 |  | 5 |  | 80

Total Estimated Burden Hours: 80.

Status: Proposed new collection.

Authority: Section 3507 of the Paperwork Reduction Act of 1995, 44 U.S.C. 35, as amended.

Dated: June 20, 2005.
Wayne Eddins,
Departmental Paperwork Reduction Act Officer, Office of the Chief Information Officer.

[FR Doc. E5-3337 Filed 6-27-05; 8:45 am]

BILLING CODE 4210-27-P